DEPARTMENT OF COMMERCE

National Oceanic and Atmospheric Administration

[I.D. 011102F]

North Pacific Fishery Management Council; Public Meeting

AGENCY: National Marine Fisheries Service (NMFS), National Oceanic and Atmospheric Administration (NOAA), Commerce.

ACTION: Notice of Committee Meeting.

SUMMARY: The North Pacific Fishery Management Council's (Council) Essential Fish Habitat (EFH) Committee will meet in Juneau, AK.

DATES: The meeting will be held on January 29-30, 2002.

ADDRESSES: The meeting will be held at the Alaska Fisheries Science Center, 7600 Sand Point Way NE, Seattle, WA.

Council address: North Pacific Fishery Management Council, 605 W. 4th Ave., Suite 306, Anchorage, AK 99501-2252.

FOR FURTHER INFORMATION CONTACT: Cathy Coon, North Pacific Fishery Management Council; 907-271-2809.

SUPPLEMENTARY INFORMATION: The meeting will begin at 10:30 a.m. on Tuesday, January 29, continue through Wednesday, January 30. The committee's agenda includes the following issues:

1. Review of alternatives for EFH and habitat areas of particular concern (HAPC).

2. Discussion of HAPC site designation/proposal process.

3. Develop final recommendation on EFH and HAPC alternatives.

4. Review draft Groundfish Programmatic Groundfish Supplementary Environmental Impact Statement schedule, table of contents, and purpose and need statements.

5. Presentation and discussion of white paper on mitigation alternatives and gear impact analysis.

6. Discussion of format for NMFS workshop on gear effects.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Helen Allen, 907-271-2809, at least 5 working days prior to the meeting date.

Dated: January 11, 2002.
Richard W. Surdi,
Acting Director, Office of Sustainable Fisheries, National Marine Fisheries Service.

[FR Doc. 02-1134 Filed 1-15-02; 8:45 am]

BILLING CODE 3510-22-S